DEPARTMENT OF INTERIOR

Geological Survey

Request for Public Comments on Guidelines for Providing Appropriate Access to Geospatial Data in Response to Security Concerns

AGENCY: Geological Survey, Interior.

ACTION: Notice of availability.

SUMMARY: The guidelines provide procedures to identify sensitive information content of geospatial data sets. Should such content be identified, the guidelines help organizations decide what access to provide to such data and still protect sensitive information content. The geospatial data community's use of a common, standardized approach to identify data sets that have sensitive content and to restrict such information will increase the effectiveness of individual organization's actions.

DATES: Comments must be received on or before June 2, 2004.

ADDRESSES: The proposed guidelines are available through http://www.fgdc.gov/fgdc/homeland/index.html. All comments concerning these proposed guidelines should be submitted by electronic mail to guidelines@fgdc.gov or by postal mail to FGDC HSWG Guidelines Review, 511 National Center, 12201 Sunrise Valley Drive, Reston, Virginia 20192.

FOR FURTHER INFORMATION CONTACT: Michael Domaratz, Co-chair, Federal Geographic Data Committee Homeland Security Working Group, 703-648-4434

SUPPLEMENTARY INFORMATION: Many public, private, and non-profit organizations originate and publicly distribute geospatial data sets. It is conceivable that the content of some of these data sets could prove useful to an adversary of the United States. The guidelines help organizations decide on reasonable access to sensitive data and avoid unnecessary restrictions. They do so by helping organizations identify content that might be sensitive. They then guide organizations to take appropriate actions by evaluating the sensitive content in the context of other available information, the benefits lost by restricting data access, and the options for restricting data.

Additional instructions for comment accompany the guidelines. The working group will use the comments to improve the guidelines and to plan ways to encourage their adoption. It will summarize major or recurring themes from the comments and the working group's responses, and post the information through the working group's home page at http://www.fgdc.gov/fgdc/homeland/index.html.

The Federal Geographic Data Committee will issue the guidelines under the authority provided by U.S. Office of Management and Budget Circular A-16 to establish procedures necessary and sufficient to carry out interagency coordination and the implementation of the National Spatial Data Infrastructure. The U.S. Geological survey, which houses the committee's secretariat, provides this notice on behalf of the committee.

Ivan DeLoatch,
Staff Director, Federal Geographic Data Committee.

[FR Doc. 04-9956 Filed 4-30-04; 8:45 am]

BILLING CODE 4310-Y7-M+